DEPARTMENT OF COMMERCE

National Oceanic and Atmospheric Administration

[I.D. 112601A]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Marine Protected Areas Committee in December, 2001. Recommendations from the committee will be brought to the full Council for formal consideration and action, if appropriate.

DATES: The meeting will held on Thursday, December 13, 2001, at 9:30 a.m.

ADDRESSES: The meeting will be held at the Best Western Inn, 401 Lowell Avenue, Haverhill, MA 01832; telephone: (978) 373-1511.

Council address: New England Fishery Management Council, 50 Water Street, Newburyport, MA 01950.

FOR FURTHER INFORMATION CONTACT: Paul J. Howard, Executive Director, New England Fishery Management Council; (978) 465-0492.

SUPPLEMENTARY INFORMATION: Several individuals involved in the national marine protected area (MPA) initiative will brief the Committee on recent developments and on-going programs related to MPAs. The Committee will discuss the Executive Order on MPAs (E.O. 13158) and the role of the Council in regards to MPAs. The Committee will begin the development of a Council policy and strategy on MPAs.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: November 26, 2001.
Richard W. Surdi,
Acting Director, Office of Sustainable Fisheries, National Marine Fisheries Service.

[FR Doc. 01-29639 Filed 11-28-01; 8:45 am]

BILLING CODE 3510-22-S